DEPARTMENT OF ENERGY

Federal Energy Regulatory Commission

Combined Notice of Filings #1

Take notice that the Commission received the following electric corporate filings:

Docket Numbers: EC12-9-000.

Applicants: Settlers Trail Wind Farm, LLC.

Description: Settlers Trail Wind Farm, LLC Application for Authorization under Section 203 of the Federal Power Act, Request for Expedited Consideration, and Confidential Treatment.

Filed Date: 10/19/2011.

Accession Number: 20111019-5151.

Comment Date: 5 p.m. Eastern Time on Wednesday, November 09, 2011.

Take notice that the Commission received the following exempt wholesale generator filings:

Docket Numbers: EG12-4-000.

Applicants: Sandy Creek Energy Associates, L.P.

Description: Notice of Self-Certification of Exempt Wholesale Generator Status of Sandy Creek Energy Associates, L.P.

Filed Date: 10/19/2011.

Accession Number: 20111019-5048.

Comment Date: 5 p.m. Eastern Time on Wednesday, November 09, 2011.

Take notice that the Commission received the following electric rate filings:

Docket Numbers: ER11-4147-000.

Applicants: ITC Midwest LLC.

Description: ITC Midwest LLC submits tariff filing per 35.19a(b): Filing of a Refund Report to be effective N/A.

Filed Date: 10/19/2011.

Accession Number: 20111019-5060.

Comment Date: 5 p.m. Eastern Time on Wednesday, November 09, 2011.

Docket Numbers: ER11-4149-000.

Applicants: ITC Midwest LLC.

Description: ITC Midwest LLC submits tariff filing per 35.19a(b): Filing of a Refund Report to be effective N/A.

Filed Date: 10/19/2011.

Accession Number: 20111019-5061.

Comment Date: 5 p.m. Eastern Time on Wednesday, November 09, 2011.

Docket Numbers: ER11-4154-000.

Applicants: ITC Midwest LLC.

Description: ITC Midwest LLC submits tariff filing per 35.19a(b): Filing of Refund Report to be effective N/A.

Filed Date: 10/19/2011.

Accession Number: 20111019-5057.

Comment Date: 5 p.m. Eastern Time on Wednesday, November 09, 2011.

Docket Numbers: ER11-4307-000.

Applicants: Green Mountain Energy Company.

Description: Green Mountain Energy Company's market power analysis of its affiliates in the southeast region.

Filed Date: 10/19/2011.

Accession Number: 20111019-5138.

Comment Date: 5 p.m. Eastern Time on Wednesday, November 02, 2011.

Docket Numbers: ER11-4308-000.

Applicants: Reliant Energy Northeast LLC.

Description: Reliant Energy Northeast LLC's market power analysis of REN's affiliates in the southeast region.

Filed Date: 10/19/2011.

Accession Number: 20111019-5140.

Comment Date: 5 p.m. Eastern Time on Wednesday, November 02, 2011.

Docket Numbers: ER12-114-000.

Applicants: Southwestern Electric Power Company.

Description: Southwestern Electric Power Company submits tariff filing per 35.13(a)(2)(iii): 20111019 Hope Restated and Amended PSA to be effective 12/17/2010.

Filed Date: 10/19/2011.

Accession Number: 20111019-5030.

Comment Date: 5 p.m. Eastern Time on Wednesday, November 09, 2011.

Docket Numbers: ER12-115-000.

Applicants: Duke Energy Carolinas, LLC.

Description: Duke Energy Carolinas, LLC submits tariff filing per 35.13(a)(2)(iii): eTariff filing of JDA to be effective 12/18/2011.

Filed Date: 10/19/2011.

Accession Number: 20111019-5032.

Comment Date: 5 p.m. Eastern Time on Wednesday, November 09, 2011.

Docket Numbers: ER12-116-000.

Applicants: Duke Energy Carolinas, LLC.

Description: Duke Energy Carolinas, LLC submits tariff filing per 35.13(a)(2)(iii): eTariff Filing of Joint OATT to be effective 12/18/2011.

Filed Date: 10/19/2011.

Accession Number: 20111019-5045.

Comment Date: 5 p.m. Eastern Time on Wednesday, November 09, 2011.

Docket Numbers: ER12-117-000.

Applicants: PJM Interconnection, L.L.C.

Description: PJM Interconnection, L.L.C. submits tariff filing per 35.13(a)(2)(iii): Queue No. W3-107; Original Service Agreement No. 3076 to be effective 9/19/2011.

Filed Date: 10/19/2011.

Accession Number: 20111019-5053.

Comment Date: 5 p.m. Eastern Time on Wednesday, November 09, 2011.

Docket Numbers: ER12-118-000.

Applicants: Carolina Power & Light Company.

Description: Carolina Power & Light Company submits tariff filing per 35.13(a)(2)(iii): Rate Schedule No. 190 of Carolina Power and Light Company to be effective 12/18/2011.

Filed Date: 10/19/2011.

Accession Number: 20111019-5058.

Comment Date: 5 p.m. Eastern Time on Wednesday, November 09, 2011.

Docket Numbers: ER12-119-000.

Applicants: Carolina Power & Light Company.

Description: Carolina Power & Light Company submits tariff filing per 35.13(a)(2)(iii): Certificate of Concurrence of Carolina Power and Light Company with Joint OATT to be effective 12/18/2011.

Filed Date: 10/19/2011.

Accession Number: 20111019-5062.

Comment Date: 5 p.m. Eastern Time on Wednesday, November 09, 2011.

Docket Numbers: ER12-120-000.

Applicants: Florida Power Corporation.

Description: Florida Power Corporation submits tariff filing per 35.13(a)(2)(iii): Certificate of Concurrence of Florida Power Corporation with Joint OATT to be effective 12/18/2011.

Filed Date: 10/19/2011.

Accession Number: 20111019-5063.

Comment Date: 5 p.m. Eastern Time on Wednesday, November 09, 2011.

Docket Numbers: ER12-122-000.

Applicants: Union Electric Company, Entergy Arkansas, Inc.

Description: Union Electric Company submits tariff filing per 35.1: RS 94—Interchange Agreement—EAI and AECI to be effective 12/18/2011.

Filed Date: 10/19/2011.

Accession Number: 20111019-5097.

Comment Date: 5 p.m. Eastern Time on Wednesday, November 09, 2011.

Docket Numbers: ER12-123-000.

Applicants: PJM Interconnection, L.L.C.

Description: PJM Interconnection, L.L.C. submits tariff filing per 35.13(a)(2)(iii): Queue Position W1-126; Original Service Agreement No. 3088 to be effective 9/19/2011.

Filed Date: 10/19/2011.

Accession Number: 20111019-5098.

Comment Date: 5 p.m. Eastern Time on Wednesday, November 09, 2011.

Docket Numbers: ER12-124-000.

Applicants: Western Massachusetts Electric Company.

Description: Western Massachusetts Electric Company submits tariff filing per 35.12: Pioneer Valley Design & Preliminary Engineering Agreement for Switchyard Layout to be effective 10/20/2011.

Filed Date: 10/19/2011.

Accession Number: 20111019-5099.

Comment Date: 5 p.m. Eastern Time on Wednesday, November 09, 2011.

Docket Numbers: ER12-125-000.

Applicants: PJM Interconnection, L.L.C.

Description: PJM Interconnection, L.L.C. submits tariff filing per 35.13(a)(2)(iii): Revisions to the PJM OATT & OA regarding the DR Registration Timeline to be effective 12/19/2011.

Filed Date: 10/19/2011.

Accession Number: 20111019-5108.

Comment Date: 5 p.m. Eastern Time on Wednesday, November 09, 2011.

Docket Numbers: ER12-126-000.

Applicants: Trademark Merchant Energy, LLC.

Description: Trademark Merchant Energy, LLC submits tariff filing per 35.13(a)(2)(iii): Notice of Succession—Trademark Merchant Energy, LLC to be effective 9/6/2011.

Filed Date: 10/19/2011.

Accession Number: 20111019-5109.

Comment Date: 5 p.m. Eastern Time on Wednesday, November 09, 2011.

Docket Numbers: ER12-127-000.

Applicants: Westar Energy, Inc.

Description: Westar Energy, Inc. submits tariff filing per 35.13(a)(2)(iii): Burlingame, KS Wholesale Power Sales Service to be effective 1/1/2012.

Filed Date: 10/19/2011.

Accession Number: 20111019-5111.

Comment Date: 5 p.m. Eastern Time on Wednesday, November 09, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2011.
Nathaniel J. Davis, Sr.,
Deputy Secretary.

[FR Doc. 2011-27998 Filed 10-28-11; 8:45 am]

BILLING CODE 6717-01-P